DEPARTMENT OF COMMERCE

National Oceanic and Atmospheric Administration

50 CFR Part 622

[Docket No. 181009921-8999-02; RTID 0648-XA604]

Fisheries of the Caribbean, Gulf of Mexico, and South Atlantic; 2020 Commercial Closure for Atlantic Migratory Group Cobia

AGENCY: National Marine Fisheries Service (NMFS), National Oceanic and Atmospheric Administration (NOAA), Commerce.

ACTION: Temporary rule; closure.

SUMMARY: NMFS implements a closure for Atlantic migratory group cobia (Atlantic cobia) that are sold (commercial) and harvested from Atlantic Federal waters off Georgia through New York. NMFS projects that commercial landings of Atlantic cobia will reach the commercial quota on November 6, 2020. Therefore, NMFS closes the commercial sector for Atlantic cobia in Federal waters from November 6, 2020, until the start of the next fishing year on January 1, 2021. This closure is necessary to protect the Atlantic cobia resource.

DATES: This temporary rule is effective at 12:01 a.m. eastern time on November 6, 2020, until 12:01 a.m. eastern time on January 1, 2021.

FOR FURTHER INFORMATION CONTACT: Mary Vara, NMFS Southeast Regional Office, telephone: 727-824-5305, email: mary.vara@noaa.gov.

SUPPLEMENTARY INFORMATION: The fishery for Atlantic cobia in Federal waters is managed under the authority of the Atlantic Coastal Fisheries Cooperative Management Act (Atlantic Coastal Act) by regulations at 50 CFR part 697.

Separate migratory groups of cobia are managed in the Gulf of Mexico and Atlantic. Atlantic cobia is managed from Georgia through New York. The southern boundary for Atlantic cobia is a line that extends due east of the Florida and Georgia state border at 30°42′45.6″ N latitude. The northern boundary for Atlantic cobia is the jurisdictional boundary between the Mid-Atlantic and New England Fishery Management Councils, as specified in 50 CFR 600.105(a).

Amendment 31 to the Fishery Management Plan (FMP) for Coastal Migratory Pelagic Resources of the Gulf of Mexico and Atlantic Region (Amendment 31) and the implementing final rule removed Atlantic cobia from Federal management under the Magnuson-Stevens Fishery Conservation and Management Act, while also implementing comparable regulations in Federal waters under the Atlantic Coastal Act (84 FR 4733, February 19, 2019).

Atlantic cobia are unique among federally managed species in the U.S. southeast region, because no commercial permit is required to harvest and sell them, and so the distinction between the commercial and recreational sectors is not as clear as with other federally managed species. However, for purposes of this temporary rule, Atlantic cobia that are sold are considered commercially caught, and those that are not sold are considered recreationally caught.

As specified in 50 CFR 697.28(f)(1), the commercial quota for Atlantic cobia is 50,000 pounds (lb) (22,680 kilograms (kg)) in round or gutted weight for the 2020 fishing year, which runs from January 1 through December 31.

Regulations for the commercial sector of Atlantic cobia at 50 CFR 697.28(f)(1) require that NMFS file a notification with the Office of the Federal Register to prohibit the sale and purchase of Atlantic cobia for the remainder of the fishing year if commercial landings reach or are projected to reach the commercial quota specified in 50 CFR 697.28(f)(1). NMFS projects that commercial landings of Atlantic cobia will reach the commercial quota on November 6, 2020. Accordingly, the commercial sector for Atlantic cobia is closed in Federal waters beginning on November 6, 2020, and will remain closed until the start of the next fishing year on January 1, 2021.

During the commercial closure, the sale and purchase of Atlantic cobia is prohibited. The recreational bag and possession limits for Atlantic cobia apply while the recreational sector is open (50 CFR 697.28(e)). The prohibition on sale and purchase does not apply to Atlantic cobia that were harvested, landed ashore, and sold before November 6, 2020, and were held in cold storage by a dealer or processor.

Classification

NMFS issues this action pursuant to the Atlantic Coastal Act. This action is required by 50 CFR 697.28(f)(1) and is exempt from review under Executive Order 12866.

These measures are exempt from the procedures of the Regulatory Flexibility Act because the temporary rule is issued without opportunity for prior notice and comment.

Pursuant to 5 U.S.C. 553(b)(B), there is good cause to waive prior notice and an opportunity for public comment as such procedures are unnecessary and contrary to the public interest. Such procedures are unnecessary because the regulations associated with the commercial quota for Atlantic cobia have already been subject to notice and comment, and all that remains is to notify the public of the commercial closure for the remainder of the 2020 fishing year. Prior notice and opportunity for public comment on this action is contrary to the public interest because of the need to immediately implement the commercial closure to protect Atlantic cobia, since the capacity of the fishing fleet allows for rapid harvest of the commercial quota. Prior notice and opportunity for public comment would require time and would potentially result in a harvest that exceeds the commercial quota.

For the aforementioned reasons, there is good cause under 5 U.S.C. 553(d)(3) to waive the 30-day delay in the effective date of this action.

Authority: 16 U.S.C. 5101 et seq.

Dated: October 30, 2020.
Jennifer M. Wallace,
Acting Director, Office of Sustainable Fisheries, National Marine Fisheries Service.

[FR Doc. 2020-24431 Filed 11-3-20; 8:45 am]

BILLING CODE 3510-22-P